DEPARTMENT OF THE TREASURY

Submission for OMB Review; Comment Request

December 24, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 6, 2003 to be assured of consideration.

Internal Revenue Service

OMB Number: 1545-1681.

Form Number: IRS Form A.

Type of Review: Extension.

Title: Qualifications & Availability Form.

Description: Form A is used by external applicants applying for clerical and technical positions with the Internal Revenue Service. Applicants will complete information relating to their address, job preference, veteran's preference and a series of occupational questions, knowledge and skills along with background information.

Respondents: Individuals or households.

Estimated Number of Respondents: 90,000.

Estimated Burden Hours Per Respondent: 30 minutes.

Frequency of Response: On occasion.

Estimated Total Reporting Burden: 45,000 hours.

OMB Number: 1545-1685.

Regulation Project Number: REG-103735-00 NPRM and Temporary.

Type of Review: Extension.

Title: Tax Shelter Disclosure Statements.

Description: The regulations provide guidance on the filing requirement under section 6011 for certain corporate taxpayers engaged in transactions producing tax savings in excess of certain dollar thresholds.

Respondents: Business or other for-profit, individuals or households.

Estimated Number of Respondents/Recordkeepers: 1.

Estimated Burden Hours Per Respondent/Recordkeeper: 1 hour.

Frequency of Response: Annually.

Estimated Total Reporting/Recordkeeping Burden: 1 hour.

OMB Number: 1545-1686.

Regulation Project Number: REG-103736-00 NPRM and Temporary.

Type of Review: Extension.

Title: Requirement to Maintain List of Investors in Potentially Abusive Tax Shelters.

Description: The regulations provide guidance on the requirement under section 6112 to maintain a list of investors in potentially abusive tax shelters.

Respondents: Business or other for-profit, individual or household.

Estimated Number of Recordkeepers: 150.

Estimated Burden Hours Per Recordkeeper: 100 hours.

Frequency of Response: On occasion.

Estimated Total Recordkeeping Burden: 15,000 hours.

OMB Number: 1545-1687.

Regulation Project Number: REG-110311-98 NPRM and Temporary.

Type of Review: Extension.

Title: Corporate Tax Shelter Registration.

Description: The regulations provide the guidance required to activate the registration requirements of Internal Revenue Code (IRC) section 6111 and penalty provisions of IRC section 6707 for confidential corporate tax shelters described in IRC section 6111(d).

Respondents: Business or other for-profit.

Estimated Number of Respondents: 4.

Estimated Burden Hours Per Respondent: 15 minutes.

Estimated Total Reporting Burden: 1 hour.

Clearance Officer: Glenn Kirkland (202) 622-3428, Internal Revenue Service, Room 6411-03, 1111 Constitution Avenue, NW, Washington, DC 20224.

OMB Reviewer: Joseph F. Lackey, Jr. (202) 395-7316, Office of Management and Budget, Room 10235, New Executive Office Building, Washington, DC 20503.

Lois K. Holland,
Departmental Reports Management Officer.

[FR Doc. 03-267 Filed 1-6-03; 8:45 am]

BILLING CODE 4830-01-P